DEPARTMENT OF COMMERCE

International Trade Administration

United States Manufacturing Council: Meeting of the United States Manufacturing Council

AGENCY: International Trade Administration, U.S. Department of Commerce.

ACTION: Notice of an open meeting.

SUMMARY: The United States Manufacturing Council (Council) will hold the first meeting of the current members' term on Wednesday, April 1, 2015. The Council was established in April 2004 to advise the Secretary of Commerce on matters relating to the manufacturing industry.

The purpose of the meeting is to brief Council members on current manufacturing initiatives throughout the Federal government. The Council will receive briefings from various leaders across the Department who are actively engaged in different aspects of manufacturing policy. The Council will also receive briefings from senior officials of related government agencies such as the Department of Labor. The Secretary of Commerce has been invited to welcome the Council and provided introductory remarks. Following the briefings, the Council members will be asked to discuss their views on major priorities facing the manufacturing industry and issues that they propose for the Council to advise on during their appointment term. The agenda may change to accommodate Council business. The final agenda will be posted on the Department of Commerce Web site for the Council at http://trade.gov/manufacturingcouncil, at least one week in advance of the meeting.

DATES: Wednesday, April 1, 2015, 8:30 a.m.-11:30 a.m. The deadline for members of the public to register, including requests to make comments during the meetings and for auxiliary aids, or to submit written comments for dissemination prior to the meeting, is 5 p.m. EDT on March 23, 2015.

ADDRESSES: U.S. Manufacturing Council, U.S. Department of Commerce, Room 4043, 1401 Constitution Avenue NW., Washington, DC 20230, mc@trade.gov. Members of the public are encouraged to submit registration requests and written comments via email to ensure timely receipt.

FOR FURTHER INFORMATION CONTACT: Niara Phillips, the United States Manufacturing Council, Room 4043, 1401 Constitution Avenue NW., Washington, DC 20230, telephone: 202-482-4501, email: niara.phillips@trade.gov.

SUPPLEMENTARY INFORMATION:

Background: The Council advises the Secretary of Commerce on matters relating to the U.S. manufacturing industry.

Public Participation: The meeting will be open to the public and will be physically accessible to people with disabilities. All guests are required to register in advance by the deadline identified under the DATES caption. The meeting room will be provided upon registration. Seating is limited and will be on a first come, first served basis. Requests for sign language interpretation or other auxiliary aids must be submitted by the registration deadline. Last minute requests will be accepted, but may be impossible to fill. There will be fifteen (15) minutes allotted for oral comments from members of the public attending the meeting. To accommodate as many speakers as possible, the time for public comments will be limited to three (3) minutes per person. Individuals wishing to reserve speaking time during the meeting must submit a request at the time of registration along with a brief statement of the general nature of the comments, as well as the name and address of the proposed speaker. If the number of registrants requesting to make statements is greater than can be reasonably accommodated during the meeting, the International Trade Administration may conduct a lottery to determine the speakers. Speakers are requested to bring at least 25 copies of their oral comments for distribution to the members of the Manufacturing Council and to the public at the meeting.

In addition, any member of the public may submit pertinent written comments concerning the Council's affairs at any time before or after the meeting. Comments may be submitted to Niara Phillips at the contact information indicated above. To be considered during the meeting, comments must be received no later than 5:00 p.m. EDT on March 23, 2015, to ensure transmission to the Council prior to the meeting. Comments received after that date will be distributed to the members but may not be considered at the meeting. Copies of Council meeting minutes will be available within 90 days of the meeting.

Dated: March 11, 2015.
Niara Phillips,
Executive Secretary, United States Manufacturing Council.

[FR Doc. 2015-06111 Filed 3-17-15; 8:45 am]

BILLING CODE 3510-DR-P